DEPARTMENT OF COMMERCE

Establishment of the NIST Blue Ribbon Commission on Management and Safety and Preliminary Notice of Public Meeting.

AGENCY: U.S. Department of Commerce.

ACTION: Notice of establishment of the NIST Blue Ribbon Commission on Management and Safety and Preliminary Notice of Public Meeting.

SUMMARY: Pursuant to the Federal Advisory Committee Act, as amended (5 U.S.C. App.), the Secretary of Commerce announces the establishment of the NIST Blue Ribbon Commission on Management and Safety (Commission). The Commission will advise the Secretary on whether (a) the training, safety, security, and response protocols, (b) the implementation of those protocols and internal controls, and (c) the management structure at the National Institute of Standards and Technology (NIST) are appropriate to ensure the safe operation of all NIST programs.

This Notice also provides preliminary notice of a public meeting of the Commission. Specific details will be provided in a subsequent Federal Register Notice and on the agency's Web site.

DATES: The Commission will be established on or after September 2, 2008.

ADDRESSES: All comments shall be submitted to Thomas L. Hemingway, U.S. Department of Commerce, Room 5838, 1401 Constitution Avenue, NW., Washington, DC 20230; telephone: (202) 482-3088; e-mail: THemingway@doc.gov.

FOR FURTHER INFORMATION CONTACT: Thomas L. Hemingway, U.S. Department of Commerce, Room 5838, 1401 Constitution Avenue, NW., Washington, DC 20230; telephone: (202) 482-3088; e-mail: THemingway@doc.gov.

SUPPLEMENTARY INFORMATION:

I. Background

The Commission is needed to provide expert consensus advice to the Department of Commerce on management and safety issues arising from a spill of a hazardous material that took place on June 9, 2008 at the Department's National Institute of Standards and Technology (NIST) laboratory in Boulder, Colorado.

This incident has been or is being investigated by the Department of Energy's Radiological Assistance Program; the NIST Ionizing Radiation Safety Committee; the NIST Safety, Health, and Environment Division; the Department of Commerce's Inspector General; and five radiation and physics experts who provided their preliminary individual recommendations to NIST. The Nuclear Regulatory Commission is also conducting an inspection and review in response to the incident.

Preliminary findings from these investigations suggest that the root causes of the incident include systemic organizational and cultural issues at NIST. Only through bringing together outside analysts can NIST assure itself and the public that the review is unbiased.

The Department of Commerce now requires consensus advice from a group of scientific experts on whether (a) the training, safety, security, and response protocols, (b) the implementation of those protocols and internal controls, and (c) the management structure at the NIST are appropriate to ensure the safe operation of all NIST programs. While individual advice has sufficed to identify existing problems, the Department requires consensus advice from outside experts to identify measures that can be used to address the organizational and cultural issues in the future.

The Commission shall begin its investigation within fourteen days of establishment. It shall provide an oral briefing of its preliminary findings to the Secretary within 45 days of beginning its investigation, and written findings within 90 days of beginning its investigation.

II. Structure

The Commission shall consist of seven members who are qualified experts with public or private sector experience in one or more of the following areas:

• Management and organizational structure;

• Training and human resources operations;

• Laboratory management and safety;

• Hazardous materials safety;

• Emergency medical response;

• Environmental safety;

• Environmental remediation; and

• Security for hazardous materials.

These members shall serve as Special Government Employees as such employees are defined in 18 U.S.C. 202(a).

Management and support services shall be provided by NIST.

III. Compensation

Members shall receive per diem and travel expenses as authorized by 5 U.S.C. 5703, as amended, for persons employed intermittently in the Government service. No other compensation shall be provided.

IV. Preliminary Notice of Public Meeting

The first public meeting will be held within fourteen days after the Commission is established. Details of this meeting will be provided in another Federal Register Notice, and posted on the Department's Web site as soon as they are finalized.

Dated: August 13, 2008.
David K. Bowsher,
Deputy General Counsel.

[FR Doc. E8-19101 Filed 8-14-08; 8:45 am]

BILLING CODE 3510-03-P